DEPARTMENT OF THE INTERIOR

Fish and Wildlife Service

Crocodile Lake National Wildlife Refuge

AGENCY: Fish and Wildlife Service, Department of the Interior.

ACTION: Notice of availability of the Draft Comprehensive Conservation Plan and Environmental Assessment for Crocodile Lake Naitonal Wildlife Refuge in Monroe County, Florida.

SUMMARY: The Fish and Wildlife Service announces that a Draft Comprehensive Conservation Plan and Environmental Assessment for Crocodile Lake National Wildlife Refuge are available for review and comment. The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife observation, wildlife photography, and environmental education and interpretation.

Significant issues address in the draft plan include: threatened and endangered species; migratory birds, habitat restoration; invasive exotic species control; funding and staffing; and land acquisition.

DATES: Individuals wishing to comment on the Draft Comprehensive Conservation Plan and Environmental Assessment for Crocodile Lake National Wildlife Refuge should do so no later than October 17, 2005. Public comments were requested, considered, and incorporated throughout the planning process. Public outreach has included public scoping meetings, planning updates, and a Federal Register notice.

ADDRESSES: Requests for copies of the Draft Comprehensive Conservation Plan and Environmental Assessment should be addressed to the Florida Keys National Wildlife Refuge Complex, 28950 Watson Boulevard, Big Pine Key, Florida 33043; Telephone 305/872-2239. The plan and environmental assessment may also be accessed and downloaded from the Service's Internet Web site http://southeast.fws.gov/planning/. Comments on the draft plan may be submitted to the above address or via electronic mail to van_fischer@fws.gov. Please include your name and return address in your Internet message. Our practice is to make comments, including names and mailing addresses of respondents, available for public review during regular business hours. Individual respondents may request that we withhold their home addresses from the record, which will honor to the extent allowable by law.

SUPPLEMENTARY INFORMATION: The Service developed three alternatives for managing the refuge and chose Alternative 2 as the preferred alternative.

Alternatives

Serving as a basis for each alternative, goals and sets of objectives and strategies were developed to help fulfill the purposes of the refuge and the mission of the National Wildlife Refuge System. Objectives are desired conditions or outcomes that are grouped into sets, and for this planning effort, consolidated into three alternatives. These alternatives represent different approaches to managing the refuge while still meeting purposes and goals. Plans will be revised at least every 15 years, or earlier, if monitoring indicates management changes are warranted. Goals are common for each of the alternatives with objectives and strategies differing. A comparison of each alternative follows the general descriptions.

Alternative 1: (No Action) Continuation of current refuge management that includes basic habitat management, such as control of exotics and fundamental monitoring. This alternative represents no change from current management of the refuge and is considered a baseline. Management emphasis would continue to focus on maintaining biological integrity of habitats found on the refuge. Primary management activities include invasive exotic plan control, pest management, habitat restoration, and basic monitoring of threatened and endangered species. Alternative 1 represents the anticipated conditions of the refuge for the next 15 years assuming current policies, programs, and activities continue. The other two alternatives are compared to this alternative in order to evaluate differences in future conditions compared to baseline management.

This alternative reflects actions that include supporting recovery efforts for federally listed species, restoring hammocks, restoring wetlands, and acquiring lands from willing sellers within the acquisition boundary. Monitoring of plants and animals would be limited due to staffing constraints and limited research interest. Habitat management actions are intended to benefit all wildlife by maintaining habitat integrity.

Management coordination would occur between the refuge and the adjacent state botanical preserve. Coordination would be limited because of staffing constraints and remain focused on invasive exotics control, habitat restoration, and threatened and endangered species. Since the refuge is closed to the public, visitors would continue to be directed to the state botanical preserve. The preserve has infrastructure to accommodate visitors who want to experience being in a hardwood hammock or mangrove forest.

The refuge would remain staffed with a refuge manager and periodic interns. Researchers would be accommodated when projects benefit the refuge. The refuge would remain closed to public and commercial access.

Alternative 2: (Preferred Alternative) Increase management actions that focus greater attention on actively managing habitats to provide increased habitat value.

This alternative is the preferred alternative for managing the refuge. Under this alternative, existing management activities would continue, and some activities would be expanded. This alternative proposes to add an additional full-time biological technician to allow for expansion of activities such as monitoring, exotics control, and restoration.

The staff member would help support the additional activities proposed under this alternative.

Increasing efforts related to exotics control, pest management, and monitoring are characteristic of this alternative. This increased management actions would help to achieve the long-term goals and objectives in a timelier manner than under the “no action” alternative. This alternative would result in a more ecosystem-based management approach that views the refuge as a single system rather than separate habitat types. Federally listed species would still be of primary concern, but needs of other resident and migratory wildlife would also be considered.

A more proactive approach to land acquisition would be taken in order to purchase remaining inholdings. The refuge would actively contact owners of inholdings and seek to acquire the parcels. There are roughly 400 acres of inholdings that the refuge wants to acquire in order to restore distributed habitats on those parcels. Acquiring inholdings would also ensure that connectivity of refuge habitats is maintained.

Alternative 3: (Limited Public Access) Open refuge to limited public use and access while increasing management actions that focus greater attention on actively managing habitats to provide increased habitat value.

This alternative is an expanded version of Alternative 2 that allows for opening the refuge to limited public use. The refuge was established as a closed refuge and the possibility of allowing public use was considered for this alternative. Restoration of habitats may provide an opportunity to incorporate nature trails that provide access to the refuge.

These potential nature trails would need to be located in areas that would result in no disturbance to wildlife since they would be located in areas that were disturbed. The trails would also provide interpretive signs to educate visitors about refuge resources.

In addition to the nature trails, there would be a strengthening of the refuge friends group in order to provide guided tours of the refuge. Refuge staff would train volunteers to conduct tours of areas that are only accessible with a guide. This approach would open the refuge and allow visitors to experience the refuge while minimizing disturbance to sensitive wildlife areas.

Alternatives Considered, but Rejected

Opening the entire refuge to general public use and access was rejected since it would create too much disturbance to sensitive wildlife. Additionally, a full-time refuge ranger and law enforcement officer would need to be added to the staff to handle the influx of visitors. The Florida Keys receive approximately 4 million visitors per year and even a fraction of a percent of those visitors stopping at the refuge would cause impacts of unacceptable levels.

Active habitat manipulation to emulate natural disturbances (e.g., hurricane micro-bursts) was discussed at length during the biological review as a possible approach to increase preferred habitat for federally listed species. This alternative centered on clearing one to five acres of mature hardwood hammock to create disturbed areas. The planning team unanimously agreed that destroying intact hardwood hammock was too controversial to undertake. However, restoring existing disturbed areas (e.g., NIKE site) to a younger-aged hammock was agreed upon and incorporated into the preferred alternative.

Crocodile Lake National Wildlife Refuge is in north Key Largo approximately 40-miles south of Miami, Florida, on County Road 905. The refuge headquarters is 1.8 miles north of the U.S. Highway 1 and County Road 905 split in Key Largo, Florida. The refuge was established as a closed refuge and is not open to the general public.

Crocodile Lake National Wildlife Refuge was established in 1980 to protect critical breeding and nesting habitat for the endangered American crocodile and other wildlife. The refuge is currently comprised of 6,700 acres including 650 acres of open water. It contains a mosaic of habitat types, including tropical hardwood hammock, mangrove forest, and salt marsh. These habitats are critical for hundreds of plants and animals including six federally listed species. The refuge is unusual in that not all of the critical habitat areas are in a pristine, undisturbed condition. A large portion of the refuge was going to be a residential development complete with canals for boating access. The dredge-spoil from the canal system was piled up in berms on the banks of the canals and became an important nesting area for the federally listed American crocodile. American crocodiles are fairly wide-spread throughout the tropics, however, in the United States, crocodiles are only found in south Florida and the Keys.

The refuge protects one of the largest remaining tracts of tropical hardwood hammock, which is a globally threatened habitat type. These diverse forests are home to hundreds of plants and animals including the federally listed Key Largo woodrat, Key Largo cotton mouse, Schaus swallowtail butterfly, Stock Island tree snail, and eastern indigo snake. These species require hammocks in order to survive. Unfortunately, most of the hammocks in Key Largo have been eliminated by development, which has lead to considerable population declines in these already imperiled species.

Authority: This notice is published under the authority of the National Wildlife Refuge System Improvement Act of 1977, Public Law 105-57.

Dated: June 17, 2005.
Cynthia K. Dohner,
Acting Regional Director.

[FR Doc. 05-16171 Filed 8-15-05; 8:45 am]

BILLING CODE 4310-55-M